DEPARTMENT OF COMMERCE

National Oceanic and Atmospheric Administration

[RTID 0648-XE997]

Marine Mammals; File No. 23554

AGENCY: National Marine Fisheries Service (NMFS), National Oceanic and Atmospheric Administration (NOAA), Commerce.

ACTION: Notice; issuance of permit amendment.

SUMMARY: Notice is hereby given that Colleen Reichmuth, Ph.D., Long Marine Laboratory, University of California at Santa Cruz, 115 McAllister Way, Santa Cruz, CA 95060, has been issued a minor amendment to Scientific Research Permit No. 23554.

ADDRESSES: The amendment and related documents are available for review upon written request via email to NMFS.Pr1Comments@noaa.gov.

FOR FURTHER INFORMATION CONTACT: Sara Young or Jennifer Skidmore, (301) 427-8401.

SUPPLEMENTARY INFORMATION: The requested amendment has been granted under the authority of the Marine Mammal Protection Act of 1972, as amended (16 U.S.C. 1361 et seq.) and the regulations governing the taking and importing of marine mammals (50 CFR part 216), the Endangered Species Act of 1973, as amended (16 U.S.C. 1531 et seq.), and the regulations governing the taking, importing, and exporting of endangered and threatened species (50 CFR parts 222-226).

The original permit (No. 23554), issued on February 16, 2021 (86 FR 13700, March 10, 2021) authorized the permit holder to conduct comparative psychological and physiological studies with captive California sea lions (Zalophus californianus), harbor seals (Phoca vitulina), spotted seals (Phoca largha), ringed seals (Pusa hispida), bearded seals (Erignathus barbatus), and Hawaiian monk seals (Neomonachus schauinslandi) at Long Marine Laboratory (Santa Cruz, CA) and the Alaska SeaLife Center (Seward, AK). Up to four individuals per species may be studied at both facilities at any given time over the duration of the permit, with the exception of the Hawaiian monk seal, for which a max of one seal will be studied at a time. This minor amendment extends the duration of the permit through January 31, 2027, but does not change any other terms or conditions of the permit.

Dated: June 26, 2025.
Shannon Bettridge,
Chief, Marine Mammal and Sea Turtle Conservation Division, Office of Protected Resources, National Marine Fisheries Service.

[FR Doc. 2025-12284 Filed 6-30-25; 8:45 am]

BILLING CODE 3510-22-P